DEPARTMENT OF COMMERCE

National Oceanic and Atmospheric Administration

National Climate Assessment and Development Advisory Committee

AGENCY: Office of Oceanic and Atmospheric Research (OAR), National Oceanic and Atmospheric Administration (NOAA), Department of Commerce.

ACTION: Notice of charter renewal.

SUMMARY: The Department of Commerce's Chief Financial Officer and Assistant Secretary for Administration has renewed the charter for the National Climate Assessment and Development Advisory Committee (NCADAC) for a six-month period, through July 10, 2013. The NCADAC is a federal advisory committee under the Federal Advisory Committee Act (Pub. L. 92-463).

DATES: Renewed through July 10, 2013.

FOR FURTHER INFORMATION CONTACT: Dr. Cynthia J. Decker, Designated Federal Officer, National Climate Assessment and Development Advisory Committee, NOAA, Rm. 11230, R/SAB, 1315 East-West Highway, Silver Spring, Maryland 20910. (Phone: 301-734-1156, Email: Cynthia.decker@noaa.gov); or visit the NOAA SAB Web site at http://www.ncadac.noaa.gov.

SUPPLEMENTARY INFORMATION: The renewal of the Charter for six months is critical to the success of the national climate assessment.

One amendment was made to the charter. Under section 5. Authority to Which the Committee Reports, first sentence “The committee shall report to the USGCRP through the Under Secretary of Commerce for Oceans and Atmosphere (“Under Secretary”) or her or his designee on the committee's activities and recommendations regarding the contents and process of the National Climate Assessment.” The phrase “the USGCRP through” was removed. At the end of the section, this sentence was added—“The Under Secretary shall ensure that the National Climate Assessment is forwarded to the USGCRP.”

Dated: March 5, 2013.
Jason Donaldson,
Chief Financial Officer/Chief Administrative Officer, Office of Oceanic and Atmospheric Research, National Oceanic and Atmospheric Administration.

[FR Doc. 2013-05469 Filed 3-21-13; 8:45 am]

BILLING CODE 3510-KD-P